FEDERAL DEPOSIT INSURANCE CORPORATION

Notice of Agency Meeting

Pursuant to the provisions of the “Government in the Sunshine Act” (5 U.S.C. 552b), notice is hereby given that, at 9:08 a.m. on Wednesday, March 10, 2004, the Board of Directors of the Federal Deposit Insurance Corporation met in closed session to consider matters relating to the Corporation's corporate, supervisory, and personnel activities.

In calling the meeting, the Board determined, on motion of Director John D. Hawke, Jr. (Comptroller of the Currency), seconded by Director Thomas J. Curry, concurred in by Scott M. Albinson, acting in the place and stead of James E. Gilleran (Director, Office of Thrift Supervision), and Vice Chairman John M. Reich, that Corporation business required its consideration of the matters on less than seven days' notice to the public; that no notice of the meeting earlier than March 5, 2004, was practicable; that the public interest did not require consideration of the matters in a meeting open to public observation; and that the matters could be considered in a closed meeting by authority of subsections (c)(2), (c)(6), (c)(8), and (c)(9)(A)(ii) of the “Government in the Sunshine Act” (5 U.S.C. 552b(c)(2), (c)(6), (c)(8), and (c)(9)(A)(ii)).

The meeting was held in the Board Room of the FDIC Building located at 550 17th Street, NW., Washington, DC.

Dated: March 10, 2004.
Federal Deposit Insurance Corporation.
Robert E. Feldman,
Executive Secretary.

[FR Doc. E4-559 Filed 3-15-04; 8:45 am]

BILLING CODE 6714-01-P